DEPARTMENT OF TRANSPORTATION

Federal Aviation Administration

Notice of Release Effecting Federal Grant Assurance Obligations Due to Airport Layout Plan Revision at Mather Airport, Sacramento, CA

AGENCY: Federal Aviation Administration, DOT.

ACTION: Notice of a Release of Grant Assurance Obligations.

SUMMARY: The Federal Aviation Administration (FAA) proposes to rule and invites public comment on the application for an Airport Layout Plan revision effecting approximately 422 acres of airport property at Mather Airport, Sacramento, California, which will provide for a release from the Grant Agreement Assurance obligations since the property does not have an airport purpose. The property was leased by the United States Air Force (Air Force) to the County of Sacramento (County) for airport purposes following the closure of Mather Air Force Base pursuant to the Defense Base Closure and Realignment Act of 1988, as amended. The Air Force is now preparing to terminate the lease and convey the airport land to the County under the provision of the Surplus Property Act of 1944, as amended. The County and Air Force determined that certain portions of the leased land do not have an airport purpose, so these parcels of land will not be conveyed by the Air Force to the County. As a result, the existing Airport Layout Plan will be revised to delete the parcels that will not be conveyed to the County because these parcels do not have any airport purposes now or in the future.

DATES: Comments must be received on or before October 11, 2012.

FOR FURTHER INFORMATION CONTACT: Comments on the request may be mailed or delivered to the FAA at the following address: Robert Lee, Airports Compliance Specialist, Federal Aviation Administration, Airports District Office, Federal Register Comment, 1000 Marina Boulevard, Suite 220, Brisbane, CA 94005-1835. In addition, one copy of the comment submitted to the FAA must be mailed or delivered to Mr. J. Glen Rickelton, Manager of Planning and Environment, Sacramento County Airport System, 6900 Airport Boulevard, Sacramento, CA 95837.

SUPPLEMENTARY INFORMATION: In accordance with the Wendell H. Ford Aviation Investment and Reform Act for the 21st Century (AIR 21), Public Law 106-181 (Apr. 5, 2000; 114 Stat. 61), this notice must be published in the Federal Register 30 days before the Secretary of Transportation may waive any condition imposed on a federally obligated airport by surplus property conveyance deeds or grant agreements.

The following is a brief overview of the request:

The County of Sacramento requested a modification to the conditions in the Grant Agreement Assurances to permit airport land depicted on the existing Airport Layout Plan to be released from its obligation to serve an airport purpose. The County wishes to remove approximately 422 acres from the Airport Layout Plan because the County and the Air Force determined that these acres of land that had been leased cannot be conveyed for airport purposes because the land was not used for an airport purpose and will not serve an airport purpose in the future. Following the closure of Mather Air Force Base under the provisions of the Defense Base Closure and Realignment Act, the Air Force leased part of the base to the County to be used as a civilian airport. Included in the leasehold property were three parcels that did not serve an airport purpose. The three parcels are a wildlife preserve containing approximately 412 acres, a trailer park containing 2.12 acres, and four lots of land containing approximately 7.8 acres near the National Guard property. The County and Air Force determined that the preserve and trailer park did not serve any airport purpose. As a result, the Air Force decided that these two parcels would not be transferred as a public benefit conveyance for airport purposes to the County. The four lots were included in the Airport Layout Plan in error and were never used for airport purposes. These lots were set aside for another purpose and have already been conveyed to another recipient by the Air Force. To correct the error, the lots have to be removed from the Airport Layout Plan. This change in the Airport Layout Plan is necessary to accommodate the reapportionment of land that the Air Force is conveying as a public benefit conveyance for airport purposes.

Issued in Brisbane, California, on August 29, 2012.
Robin K. Hunt,
Manager, Airports District Office, Western-Pacific Region.

[FR Doc. 2012-22274 Filed 9-10-12; 8:45 am]

BILLING CODE 4910-13-P